NUCLEAR REGULATORY COMMISSION

Advisory Committee on Nuclear Waste; Notice of Meeting

The Advisory Committee on Nuclear Waste (ACNW) will hold its 176th meeting on February 13-15, 2007, Room T-2B3, 11545 Rockville Pike, Rockville, Maryland.

The schedule for this meeting is as follows:

Tuesday, February 13, 2007

ACNW Working Group on the Igneous Activity White Paper (Open)

Day 1: Discussion of the Nature and Probability of Igneous Activity

8:30 a.m.-8:45 a.m.: Opening Remarks and Introductions (Open)—The ACNW Chairman will make opening remarks regarding the conduct of today's sessions. ACNW Member Dr. Bill Hinze will provide an overview of the first day of the Working Group Meeting, including the meeting purpose, scope, anticipated results, and introduce invited subject matter experts.

8:45 a.m.-5:30 p.m.: Representatives from University of Bristol, England, Battelle Corporation, University of South Florida, University of Nevada-Las Vegas, NRC staff and Department of Energy—Yucca Mountain Project Operations (YMPO) will discuss the global view of igneous activity and general challenges associated with estimating volcanism recurrence and the current state of the science. During this Session, panel discussions by Committee members and invited subject matter experts will take place.

Wednesday, February 14, 2007

ACNW Working Group on the Igneous Activity White Paper (Open)

Day 2: Discussion of Consequences of Igneous Activity

8:30 a.m.-8:45 a.m.: Opening Remarks and Introductions—The ACNW Chairman will make opening remarks regarding the conduct of today's sessions. ACNW Member Dr. Bill Hinze will provide an overview of the second day of the Working Group Meeting, including the meeting purpose, scope, anticipated results, and introduce invited subject matter experts.

8:45 a.m.-5:45 p.m.: Representatives from Johns Hopkins University, University of California-Los Angeles, NRC staff, University of Utah, Clark County, Nevada, and Electric Power Research Institute (EPRI) will discuss magma/repository/canister processes in both eruptive and intrusive scenarios and implication for risk from igneous activity at the proposed Yucca Mountain repository. During this Session, panel discussions by the Committee members and invited subject matter experts will take place. A round table wrap up discussion will follow, when all participants will be able to provide their comments. Committee members will discuss their impressions of the WGM and a possible letter report to the Commission.

Thursday, February 15, 2007

10 a.m.-10:05 a.m.: Opening Remarks by the ACNW Chairman (Open)—The Chairman will make opening remarks regarding the conduct of today's sessions.

10:05 a.m.-11 a.m.: Savannah River National Laboratory (SRNL) Workshop on Cementitious Materials Used in Waste Determination Activities (Open)—The Committee will be briefed by a representative from Penn State University on the SRNL workshop on cementitious materials for waste treatment, disposal, remediation and decommissioning, which was held in Aiken, SC on December 12-14, 2006.

11 a.m.-12 p.m.: Semi-Annual Briefing by the Office of Federal and State Materials and Environmental Management Programs (FSME) (Open)—The FSME Office and Division Directors will brief the Committee on recent and future activities of interest within their respective programs.

1 p.m.-2:30 p.m.: Briefing on International Conferences on Decommissioning and Low Level Waste Subjects (Open/Closed)—FSME representatives will brief the Committee on their participation in (1) The International Conference on Lessons Learned from the Decommissioning of Nuclear Facilities and the Safe Termination of Nuclear Activities, December 2006, Athens, Greece and (2) a Technical Meeting on a Safety Guide on Classification of Radioactive Waste at the IAEA, in November and December 2006 , Vienna, Austria.

[Note: A portion of the session briefing may be closed to discuss IAEA confidential information.]

2:45 p.m.-3:45 p.m.: Possible use of Moderator Exclusion for Transportation Packages (Open)—Representatives from the NRC Office of Nuclear Materials Safety and Safeguards (NMSS), Division of Spent Fuel Storage and Transportation (SFST), will brief the Committee on preliminary views surrounding the development of a Commission Paper addressing both technical and regulatory issues for allowing Moderator Exclusion for transportation packages.

4 p.m.-5:30 p.m.: Miscellaneous (Open)—The Committee will discuss matters related to the conduct of ACNW activities and specific issues that were not completed during previous meetings, as time and availability of information permit. Discussions may include the ACNW Action Plan as well as future Committee Meetings.

Procedures for the conduct of and participation in ACNW meetings were published in the Federal Register on October 12, 2006 (71 FR 60196). In accordance with these procedures, oral or written statements may be presented by members of the public. Electronic recordings will be permitted only during those portions of the meeting that are open to the public. Persons desiring to make oral statements should notify Mr. Antonio F. Dias (Telephone 301-415-6805), between 8:15 a.m. and 5 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Mr. Dias as to their particular needs.

In accordance with Subsection 10(d) Pub. L. 92-463, I have determined that it may be necessary to close a portion of this meeting noted above to discuss IAEA confidential information pursuant to 5 U.S.C. 552b(c)(4).

Further information regarding topics to be discussed, whether the meeting has been canceled or rescheduled, the Chairman's ruling on requests for the opportunity to present oral statements and the time allotted, therefore can be obtained by contacting Mr. Dias.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: January 22, 2007.
Andrew L. Bates,
Advisory Committee Management Officer.

[FR Doc. E7-1266 Filed 1-25-07; 8:45 am]

BILLING CODE 7590-01-P